FEDERAL COMMUNICATIONS COMMISSION

47 CFR Chapter I

[DA 06-1863]

Possible Revision or Elimination of Rules

AGENCY: Federal Communications Commission.

ACTION: Review of regulations under the Regulatory Flexibility Act of 1980; comments requested.

SUMMARY: This document invites members of the public to comment on the Federal Communication Commission's (FCC's or Commission's) rules to be reviewed pursuant to section 610 of the Regulatory Flexibility Act of 1980, as amended (RFA). The purpose of the review is to determine whether Commission rules whose ten-year anniversary dates are in the year 2006, as contained in the Appendix, should be continued without change, amended, or rescinded in order to minimize any significant impact the rules may have on a substantial number of small entities. Upon receipt of comments from the public, the Commission will evaluate those comments and consider whether action should be taken to rescind or amend the relevant rule(s).

DATES: Comments may be filed on or before January 29, 2007.

ADDRESSES: Federal Communications Commission, Office of the Secretary, 445 12th Street, SW., Washington, DC 20554.

FOR FURTHER INFORMATION CONTACT: Office of Communications Business Opportunities (OCBO), Federal Communications Commission, 202-418-0990. People with disabilities may contact the FCC to request reasonable accommodations (accessible format documents, sign language interpreters, CART, etc.) by e-mail: FCC504@fcc.gov or phone: 202-418-0530 or TTY: 202-418-0432.

SUPPLEMENTARY INFORMATION: Each year the Commission will publish a list of ten-year old rules for review and comment by interested parties pursuant to the requirements of section 610 of the RFA.

Public Notice

FCC Seeks Comment Regarding Possible Revision or Elimination of Rules Under the Regulatory Flexibility Act, 5 U.S.C. 610

[CB Docket No. 06-208]

Released: November 22, 2006.

1. Pursuant to the RFA, see 5 U.S.C. section 610, the FCC hereby publishes a plan for the review of rules adopted by the agency in calendar year 1996 which have, or might have, a significant economic impact on a substantial number of small entities. The purpose of the review is to determine whether such rules should be continued without change, or should be amended or rescinded, consistent with the stated objectives of section 610 of the RFA, to minimize any significant economic impact of such rules upon a substantial number of small entities.

2. This document lists the FCC regulations to be reviewed during the next twelve months. In succeeding years, as here, the Commission will publish a list for the review of regulations promulgated ten years preceding the year of review.

3. In reviewing each rule under this plan to minimize the possible significant economic impact on a substantial number of small entities, consistent with the requirements of section 610, the FCC will consider the following factors:

(a) The continued need for the rule;

(b) the nature of complaints or comments received concerning the rule from the public;

(c) the complexity of the rule;

(d) the extent to which the rule overlaps, duplicates, or conflicts with other Federal rules and, to the extent feasible, with State and local governmental rules; and

(e) the length of time since the rule has been evaluated or the degree to which technology, economic conditions, or other factors have changed in the area affected by the rule.

4. Appropriate information has been provided for each rule, including a brief description of the rule and the need for and legal basis of the rule. The public is invited to comment on the rules chosen for review by the FCC according to the requirements of section 610 of the RFA. All relevant and timely comments will be considered by the FCC before final action is taken in this proceeding.

Comments may be filed using the Commission's Electronic Comment Filing System (“ECFS”) or by filing paper copies. Comments filed through the ECFS may be sent as an electronic file via the Internet to http://www.fcc.gov/cgb/ecfs/. Generally, only one copy of an electronic submission must be filed. In completing the transmittal screen, commenters should include their full name, U.S. Postal Service mailing address, and the applicable docket or rulemaking number.

Parties may also submit an electronic comment by Internet e-mail. To obtain filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number.

Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

The filing hours at this location are 8 a.m. to 7 p.m.

• All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

• All filings must be addressed to the Commission's Secretary, Office of the Secretary, Federal Communications Commission.

Comments in this proceeding will be available for public inspection and copying during regular business hours at the FCC Reference Information Center, Portals II, 445 12th Street, SW., Room CY-A257, Washington, DC, 20554. They may also be purchased from the Commission's duplicating contractor, Best Copy and Printing, Inc., 445 12th Street, SW., Room CY-B402, Washington, DC, 20554, telephone 202-488-5300 or 800-378-3160, facsimile 202-488-5563, or via e-mail at fcc@bcniweb.com. To request materials in accessible formats for people with disabilities (Braille, large print, electronic files, audio format), send an e-mail to fcc504@fcc.gov or call the Consumer & Governmental Affairs Bureau at 202-418-0530 (voice), 202-418-0432 (TTY).

For additional information on the requirements of the RFA visit www.fcc.gov/ocbo.

Federal Communications Commission.
Carolyn Fleming Williams,
Director, Office of Communications Business Opportunities.

Appendix

List of rules for review pursuant to the Regulatory Flexibility Act of 1980, 5 U.S.C. 610, for the year 1996. All listed rules are in Title 47 of the Code of Federal Regulations.

PART 1—PRACTICE AND PROCEDURE

Subpart E—Complaints, Applications, Tariffs, and Reports Involving Common Carriers

Brief Description: Establishes procedure for filing of applications for undersea cable landing licenses.

Need: Establishes proper procedure for submitting the correct information to comply with requirements for the licensing of undersea cable landing stations.

Legal Basis: 47 U.S.C. 34-39 and Executive Order No. 10530, dated May 10, 1954.

Section Number and Title: 1.767(e), (f) Cable landing licenses.

Subpart G—Schedule of Statutory Charges and Procedures for Payment

Brief Description: Schedule of charges for applications.

Need: Section 1.1102 through 1.1107 rules are tables that identify the application fees that are charged by the Commission for renewing, modifying, or when applying for a new license. These fees are adjusted periodically to incorporate cost-of-living increases, and or other increases in fees. Section 1.1108 through 1.1118 rules describe the type and form of payment, where it should be sent and how the payment should be processed, as well as rules governing exemptions, refunds, and penalties associated with the charges in sections 1.1102 through 1.1107.

Legal Basis: 47 U.S.C. 158(b).

Section Number and Title: 1.113(d) Return or refund of charges.

Brief Description: Petitions and applications for review.

Need: These rules describe how fees may be waived or deferred for good cause, or if would promote the public interest.

Legal Basis: 47 U.S.C. 158(d)(1).

Section Number and Title: 1.1117(f) Petitions and applications for review.

Brief Description: Schedule of annual regulatory fees and filing locations.

Need: These rules provide the authority for the Commission to impose and collect regulatory fees, as well as identify possible exemptions, adjustments, penalties, and waivers of these fees.

Legal Basis: 47 U.S.C. 159(a).

Section Number and Title:

1.1164(f)(5) Penalties for late or insufficient regulatory fee payments.

1.1166(e) Waivers, reductions and deferrals of regulatory fees.

Subpart I—Procedures Implementing the National Environmental Policy Act of 1969

Brief Description: This rule provides that no State or local government (or instrumentality thereof) may regulate the placement, construction, and modification of personal wireless service facilities based upon the environmental effects of radio frequency emissions, as long as such facilities comply with the Commission's environmental rules. Personal wireless service means commercial mobile services, unlicensed wireless services, and common carrier wireless exchange access services. Personal wireless facilities are facilities for the provision of personal wireless services.

Need: The purpose of the regulation is to preempt regulation by a State or local government (or instrumentality thereof) regarding this subject.

Legal Basis: 47 U.S.C. 154, 303, 332(c)(7).

Section Number and Title: 1.1307(e) Actions that may have a significant environmental effect, for which Environmental Assessments (EAs) must be prepared.

PART 2—FREQUENCY ALLOCATIONS AND RADIO TREATY MATTERS; GENERAL RULES AND REGULATIONS

Subpart J—Equipment Authorization Procedures

Brief Description: These rules streamline the equipment authorization requirements for personal computers and personal computer peripherals. These rules provide for a new equipment authorization procedure, “Declaration of Conformity” (DoC), which permits these devices to be authorized based on a manufacturer's or supplier's declaration that the computer product conforms with all FCC requirements.

Need: The streamlined DoC equipment authorization procedure saves industry a significant amount of administrative expenses, while continuing to provide the same level of protection against harmful interference from personal computing devices to radio communications services. These rules eliminate the need for manufacturers to obtain FCC approval before marketing new personal computer products and thus allow such products to reach the marketplace more quickly. These rules all align the FCC's equipment authorization requirements for personal computers with those used in other parts of the world.

Legal Basis: 47 U.S.C. 154, 302, 303, 307.

Section Number and Title:

2.906 Declaration of Conformity.

2.909 Responsible Party.

2.1071 Cross Reference.

2.1072 Limitation on Declaration of Conformity.

2.1073 Responsibilities.

2.1074 Identification.

2.1075 Retention of Records.

2.1076 FCC inspection and submission of equipment for testing.

2.1077 Compliance information.

PART 15—RADIO FREQUENCY DEVICES

Subpart A—General

Brief Description: These rules specify the testing and labeling requirements for the “Declaration of Conformity” (DoC) procedure which permits these devices to be authorized based on a manufacturer's or supplier's declaration that the computer product conforms with all FCC requirements.

Need: The streamlined DoC equipment authorization procedure saves industry a significant amount of administrative expenses, while continuing to provide the same level of protection against harmful interference from personal computing devices to radio communications services. These rules eliminate the need for manufacturers to obtain FCC approval before marketing new personal computer products and thus allow such products to reach the marketplace more quickly. These rules all align the FCC's equipment authorization requirements for personal computers with those used in other parts of the world.

Legal Basis: 47 U.S.C. 154, 302, 303, 304, 307.

Section Number and Title:

15.3(bb) Definition of CPU Board.

15.19(b) Labelling requirements.

15.32 Test procedures for CPU boards and computer power supplies.

15.37(g) Transition provisions for compliance with the rules.

Subpart B—Unintentional Radiators

Brief Description: These rules specify the testing and labeling requirements for the “Declaration of Conformity” (DoC) procedure which permits these devices to be authorized based on a manufacturer's or supplier's declaration that the computer product conforms with all FCC requirements.

Need: The streamlined DoC equipment authorization procedure saves industry a significant amount of administrative expenses, while continuing to provide the same level of protection against harmful interference from personal computing devices to radio communications services. These rules eliminate the need for manufacturers to obtain FCC approval before marketing new personal computer products and thus allow such products to reach the marketplace more quickly. These rules all align the FCC's equipment authorization requirements for personal computers with those used in other parts of the world.

Legal Basis: 47 U.S.C. 154, 302, 303, 304, 307.

Section Number and Title: 15.102 CPU boards and power supplies used in personal computers.

PART 17—CONSTRUCTION, MARKING AND LIGHTING OF ANTENNA STRUCTURES

Subpart A—General Information

Brief Description: The purpose of these rules is to establish procedures for antenna registration and to set standards for consideration of proposed antenna structures. The rules establish the responsibilities of antenna structure owners, licensees and permittees for maintaining the painting and lighting of antenna structures in accordance with part 17.

Need: Under part 17, the Commission has implemented an antenna structure registration (ASR) program to promote the safety of air navigation. These rules are necessary to: (1) Establish definitions; (2) explain how the ASR program interrelates with the processing of applications for station authorizations that utilize such antenna structures; (3) establish responsibility for painting and lighting antenna structures; (4) establish the steps that must be taken if licensees or permittees become aware that a structure they are using is not properly painted or lighted; and (5) provide an alternate method for registering an antenna structure that is a potential hazard to air navigation when the antenna structure owner cannot register the structure due to provisions of the Anti-Drug Abuse Act of 1988.

Legal Basis: 47 U.S.C. 154, 303. Interpret or apply 47 U.S.C. 301, 309.

Section Number and Title:

17.2(c) Antenna Structure Owner.

17.2(d) Antenna structure registration number.

17.5 Commission consideration of applications for station authorization.

17.6 Responsibility of Commission licensees and permittees.

Subpart C—Specifications for Obstruction Marking and Lighting of Antenna Structures

Brief Description: Section 17.49(d) provides that owners of antenna structures must maintain records of any extinguishment or malfunctioning of a structure light, including the date, time and nature of adjustments, repairs, or replacements made.

Need: This rule is needed as the logical conclusion to the balance of the rule requirements in part 17, providing that a record be kept of any malfunctioning of a structure light, to assist in ensuring the light's return to functionality. Documentation of correction of the problem (and compliance with the rules) promotes the safety of air navigation.

Legal Basis: 47 U.S.C. 154, 303. Interpret or apply 47 U.S.C. 301, 309.

Section Number and Title: 17.49(d) Recording of antenna structure light inspections in the owner record.

PART 20—COMMERCIAL MOBILE RADIO SERVICES

Brief Description: This rule specifies that local exchange carriers and commercial mobile radio service providers shall comply with applicable provisions of part 51, which establishes interconnection rules.

Need: To ensure that carriers, particularly new entrants and small entities, can interconnect on reasonable terms.

Legal Basis: 47 U.S.C. 154, 160, 201, 251-254, 303, and 332.

Section Number and Title: 20.11(c) Interconnection to facilities of local exchange carriers.

PART 23—INTERNATIONAL FIXED PUBLIC RADIOCOMMUNICATION SERVICES

Brief Description: Establishes procedure for filing of applications for special temporary authority involving construction or alteration of antennas where compliance with Federal Aviation Administration requirements may be required.

Need: Establishes proper procedure for submitting the correct information to establish compliance with Federal Aviation Administration antenna requirements.

Legal Basis: 47 U.S.C. 154, 303. Interprets or applies 47 U.S.C. 301.

Section Number and Title: 23.28(c) Special temporary authorization.

PART 24—PERSONAL COMMUNICATIONS SERVICES

Subpart C—Technical Standards

Brief Description: The part 24 rules set forth the conditions under which portions of the radio spectrum are made available and licensed for personal communications services (PCS). Subpart C sets forth the technical requirements for use of the spectrum and equipment in the personal communications services.

Need: The identified rule is needed to increase air navigation safety by assigning responsibility for registering, maintaining, and marking and lighting antenna structures.

Legal Basis: 47 U.S.C. 154(i), 154(j), and 303(r).

Section Number and Title: 24.55 Antenna structures; air navigation safety.

PART 25—SATELLITE COMMUNICATIONS

Subpart A—General

Brief Description: Establishes conditions for preemption of local zoning regulation of earth stations designed to receive direct broadcast satellite service, including direct-to-home satellite services, that are one meter or less in diameter or located in Alaska.

Need: Preempts restrictions impairing reception of direct broadcast satellite services.

Legal Basis: 47 U.S.C. 154. Interprets or applies 47 U.S.C. 701-744, 554.

Section Number and Title: 25.104(f) Preemption of local zoning of earth stations.

Subpart B—Applications and Licenses

Brief Description: Establishes antenna painting and lighting and antenna structure requirements.

Need: Compliance with Federal Aviation Administration antenna requirements.

Legal Basis: 47 U.S.C. 154. Interprets or applies 47 U.S.C. 701-744, 554.

Section Number and Title: 25.113(d), (e) Construction permits, station licenses, launch authority.

Brief Description: Establishes procedure for filing of applications for special temporary authority involving construction or alteration of earth station antennas where compliance with Federal Aviation Administration requirements may be required.

Need: Establishes proper procedure for submitting the correct information to establish compliance with Federal Aviation Administration antenna requirements.

Legal Basis: 47 U.S.C. 154. Interprets or applies 47 U.S.C. 701-744, 554.

Section Number and Title: 25.120(c) Application for special temporary authorization.

Brief Description: Establishes procedure for filing of applications for transmitting earth station antennas where compliance with Federal Aviation Administration requirements may be required.

Need: Establishes proper procedure for submitting the correct information to establish compliance with Federal Aviation Administration antenna requirements.

Legal Basis: 47 U.S.C. 154. Interprets or applies 47 U.S.C. 701-744, 554.

Section Number and Title: 25.130(e) Filing requirements for transmitting earth stations.

Brief Description: Prohibits the grant of a license for a space station in the mobile satellite service operating in the 1610-1626.5/2483.5-2500 MHz frequency bands to applicants who have acquired concessions for the handling of traffic to or from the United States or to interchange traffic that are denied to any other United States company.

Need: Prohibits applicants for a space station in the mobile satellite service listed above from obtaining special concessions for the handling of traffic that are not available to United States companies.

Legal Basis: 47 U.S.C. 701-744; 47 U.S.C. 154. Interprets or applies 47 U.S.C. 303.

Section Number and Title: 25.143(h) Licensing provisions for the 1.6/2.4 GHz mobile-satellite service and 2 GHz mobile-satellite service.

Subpart C—Technical Standards

Brief Description: Establishes technical standards for coordination of sites and frequencies for geostationary orbiting and non-geostationary orbiting earth stations operating in a frequency band where both have a co-primary allocation.

Need: Provides space station and earth station operators with standards and operating procedures to minimize interference.

Legal Basis: 47 U.S.C. 701-744; 47 U.S.C. 154. Interprets or applies 47 U.S.C. 303.

Section Number and Title: 25.203(h) Choice of sites and frequencies.

Brief Description: Establishes technical standards for operation of fixed satellite service earth stations operating in the 13.75-14 GHz frequency band.

Need: Provides space station and earth station operators with standards and operating procedures to minimize interference.

Legal Basis: 47 U.S.C. 154. Interprets or applies 47 U.S.C. 701-744, 554.

Section Number and Title: 25.204(f) Power Limits.

Brief Description: Establishes technical standards for sharing between non-geostationary orbiting mobile satellite service feeder links earth stations in the 19.3-19.7 GHz and 29.1-29.5 GHz frequency bands.

Need: Provides space station and earth station operators with standards and operating procedures to minimize interference.

Legal Basis: 47 U.S.C. 701-744; 47 U.S.C. 154. Interprets or applies 47 U.S.C. 303.

Section Number and Title: 25.250 Sharing between NGSO MSS Feeder links Earth Stations in the 19.3-19.7 GHz and 29.1-29.5 GHz Bands.

Brief Description: Establishes technical standards operations in the band 29.1-29.25 GHz For non-geostationary mobile satellite service operators.

Need: Provides space station and earth station operators with standards and operating procedures to minimize interference with respect to the local multipoint distribution service.

Legal Basis: 47 U.S.C. 701-744; 47 U.S.C. 154. Interprets or applies 47 U.S.C. 303.

Section Number and Title: 25.257 Special requirements for operations in the band 29.1-29.25 GHz between NGSO MSS and LMDS.

Brief Description: Establishes technical standards sharing between non-geostationary orbiting mobile satellite service feeder links earth stations and geostationary orbiting fixed satellite service feeder link earth stations in the 29.25-29.5 GHz frequency band.

Need: Provides space station and earth station operators with standards and operating procedures to minimize interference.

Legal Basis: 47 U.S.C. 701-744; 47 U.S.C. 154. Interprets or applies 47 U.S.C. 303.

Section Number and Title: 25.258 Sharing between NGSO MSS Feeder links Stations and GSO FSS services in the 29.25-29.5 GHz Bands.

PART 42—PRESERVATION OF RECORDS OF COMMUNICATION COMMON CARRIERS

Brief Description: Part 42 implements sections 219 and 220 of the Communications Act of 1934, as amended, which authorize the Commission to require communications common carriers to keep records and file reports. The part 42 rules facilitate enforcement of the Communications Act by ensuring the availability of communication common carrier records needed by the Commission to meet its regulatory obligations.

Need: Section 42.11 requires non-dominant interexchange carriers to maintain and to make available to the Commission certain information concerning the rates, terms, and conditions for detariffed service offerings. The Commission adopted this rule when it ordered detariffing of all domestic, interstate, interexchange services offered by non-dominant carriers. Rule 42.11 was adopted to enable the Commission to meet its statutory duty of ensuring that rates, terms and conditions for these services are just, reasonable, and not unreasonably discriminatory and to investigate and resolve complaints about such services.

Legal Basis: 47 U.S.C. 154(i), 219, 220.

Section Number and Title: 42.11 Retention of information concerning detariffed interexchange services.

PART 43—REPORTS OF COMMUNICATION COMMON CARRIERS AND CERTAIN AFFILIATES

Brief Description: These rules require common carriers to report transactions with affiliates and to allocate operating revenues between regulated and unregulated activities.

Need: The rules implement the Telecommunications Act of 1996's directive that incumbent local exchange carriers file annual reports showing, for the previous calendar year, their revenues, expenses, taxes, plant in service, and other investment and depreciation reserves.

Legal Basis: 47 U.S.C. 154.

Section Numbers and Title: 43.21(f) Transactions with affiliates.

Brief Description: Requires U.S. carriers that interconnect to the U.S. public switched network international private lines that extends between the United States and a country that the Commission has not exempted from the international settlements policy to file a certified statement containing the number and type of private lines interconnected on a country specific basis.

Need: Provides data that enables the Commission to assess compliance with the Commission's international settlements policy and to assess industry use of international transmission facilities.

Legal Basis: 47 U.S.C. 154, 211, 219, and 220.

Section Number and Title: 43.51(d) Contracts and concessions.

PART 51—INTERCONNECTION

Subpart A—General Information

Brief Description: The purpose of this subpart is to implement sections 251 and 252 of the Communications Act of 1934, as amended. These rules address the authority of the state commissions to approve interconnection agreements adopted by negotiation and define specific terms applicable to part 51.

Need: These rules explain industry terms and lay the groundwork for the following subparts of these rules. Additionally, the rules authorize state commissions to approve negotiated interconnection agreements regardless of whether the terms are otherwise compliant with the Commission rules, thereby fostering competition in the local exchange and exchange access markets and encouraging market-based, rather than regulatory, dispute resolutions.

Legal Basis: 47 U.S.C. 251, 252.

Section Number and Title:

51.1 Basis and purpose.

51.3 Applicability to negotiated agreements.

51.5 Terms and definitions.

Subpart B—Telecommunications Carriers

Brief Description: Subpart B implements section 251(a) of the Communications Act of 1934, as amended, and addresses the general interconnection duties of telecommunication carriers. For certain section 251 interconnection arrangements, under these rules, a carrier may also offer information services so long as it offers telecommunications services through the same arrangement as well.

Need: These rules are intended to foster competition in the local exchange and exchange access markets by requiring that all telecommunications carriers interconnect directly or indirectly with other carriers.

Legal Basis: 47 U.S.C. 251, 252.

Section Number and Title: 51.100 General duty.

Subpart C—Obligations of All Local Exchange Carriers

Brief Description: These rules implement section 251(b) of the Communications Act of 1934, as amended, and include requirements for all LECs in the areas of dialing parity and nondiscriminatory access to telephone numbers, operator services, directory assistance services and directory listings. The rules also address the authority of states to apply obligations on LECs not classified as an incumbent and the process for petitioning the Commission for classifying a LEC as an incumbent.

Need: These rules are intended to foster competition in the local exchange and exchange access markets by removing operational barriers to competition and by requiring incumbent LECs to provide nondiscriminatory access to services.

Legal Basis: 47 U.S.C. 251, 252.

Section Number and Title:

51.201 Resale (cross-reference to Part 51 subpart G).

51.203 Number Portability (cross-reference to Part 52 subpart C).

51.205 Dialing parity: General.

51.207 Local dialing parity.

51.209 Toll dialing parity.

51.211 Toll dialing parity implementation schedule.

51.213 Toll dialing parity implementation plans.

51.215 Dialing parity: Cost recovery.

51.217 Nondiscriminatory access: Telephone numbers, operator services, directory assistance services, and directory listings.

51.219 Access to rights of way (cross-reference to Part 1 subpart J).

51.221 Reciprocal compensation (cross-reference to Part 51 subpart H).

51.223 Application of additional requirements.

Subpart D—Additional Obligations Of Incumbent Local Exchange Carriers

Brief Description: This subsection generally implements section 251(c) of the Communications Act of 1934, as amended, which imposes additional obligations on incumbent LECs. Under this subpart, incumbent LECs must negotiate interconnection agreements with requesting telecommunications carriers in good faith, and file the terms and conditions of these agreements with state commissions. Additionally, incumbent LECs must comply with various obligations to interconnect with requesting carriers, including the unbundling of certain elements of their networks, and allowing such carriers to collocate certain equipment on the incumbents' premises. This subpart also describes the Commission's network change disclosure rules.

Need: The Commission found that these rules are necessary to foster a competitive market in the telecommunications industry, and to promote the deployment of broadband infrastructure and other network investment. These rules also ensure that competitors receive prompt and accurate notice of changes that could affect their ability to interconnect with the incumbent's network.

Legal Basis: 47 U.S.C. 251, 252.

Section Number and Title:

51.301 Duty to Negotiate.

51.303 Preexisting agreements.

51.305 Interconnection.

51.307 Duty to provide access on an unbundled basis to network elements.

51.309 Use of unbundled network elements.

51.311 Nondiscriminatory access to unbundled network elements.

51.313 Just, reasonable and nondiscriminatory terms and conditions for the provision of unbundled network elements.

51.315 Combination of unbundled network elements.

51.317 Standards for requiring the unbundling of network elements.

51.319 Specific unbundling requirements.

51.321 Methods of obtaining interconnection and access to unbundled elements under section 251 of the Act.

51.323 Standards for physical collocation and virtual collocation.

51.325 Notice of network changes: Public notice requirement.

51.327 Notice of network changes: Content of notice.

51.329 Notice of network changes: Methods for providing notice.

51.331 Notice of network changes: Timing of notice.

51.333 Notice of Network Changes: Short term notice, objections thereto and objections to retirement of copper loops or copper subloops.

51.335 Notice of network changes: Confidential or proprietary information.

Subpart E—Exemptions, Suspensions, and Modifications of Requirements of Section 251 of the Act

Brief Description: These rules implement section 251(f) of the Communications Act of 1934, as amended, which provides state commissions with the ability to determine if a telephone company is entitled to exemptions, suspensions or modifications of the requirements of that section, and place the burden of proof upon the telephone company to justify continued exemption from these requirements. Additionally, these rules specifically identify the subscriber line threshold for LEC eligibility for exemptions, suspensions or modifications.

Need: These rules ensure appropriate adjustments are made for smaller incumbent LECs in order to avoid applying unduly burdensome requirements.

Legal Basis: 47 U.S.C. 251, 252.

Section Number and Title:

51.401 State authority.

51.403 Carriers eligible for suspension or modification under section 251(f)(2) of the Act.

51.405 Burden of Proof.

Subpart G—Resale

Brief Description: The subpart implements section 251(b)(1) and 251(c)(4) of the Communications Act of 1934, as amended, which governs the terms and conditions under which LECs offer telecommunications services to requesting telecommunications carriers for resale.

Need: Resale has been an important entry strategy both in the short term for many new entrants as they build out their own facilities and for small businesses that cannot afford to compete in the local exchange market. These rules are designed to foster competition and ensure that new entrants have access to the resale services and ensure that they are offered on a reasonable and nondiscriminatory basis as required by section 251(b)(1) and 251(c)(4).

Legal Basis: 47 U.S.C. 251, 252.

Section Number and Title:

51.601 Scope of Resale Rules.

51.603 Resale obligation of all local exchange carriers.

51.605 Additional obligations of incumbent local exchange carriers.

51.607 Wholesale pricing standard.

51.609 Determination of avoided retail costs.

51.611 Interim wholesale rates.

51.613 Restrictions on resale.

51.615 Withdrawal of services.

51.617 Assessment of end user common line charge on resellers.

Subpart I—Procedures For Implementation Of Section 252 Of The Act

Brief Description: This subpart establishes regulations to carry out our obligations under section 252(e)(5), which authorizes the Commission to preempt a state commission in any proceeding or matter in which the state commission “fails to act to carry out its responsibility” under section 252. Section 252 sets out the procedures by which telecommunications carriers may request and obtain interconnection, resale services or unbundled network elements from an incumbent LEC.

Need: These rules foster competition by allowing the Commission to intervene if a state does not carry out its responsibilities concerning interconnection, resale, or access to unbundled network elements under section 252.

Legal Basis: 47 U.S.C. 251, 252.

Section Number and Title:

51.801 Commission action upon a state commission's failure to act to carry out its responsibility under section 252 of the Act.

51.803 Procedures for Commission notification of a state commission's failure to act.

51.805 The Commission's authority over proceedings and matters.

51.807 Arbitration and mediation of agreements by the Commission pursuant to section 252(e)(5) of the Act.

51.809 Availability of provisions of agreements to other telecommunications carriers under section 252(i) of the Act.

PART 52—NUMBERING

Subpart A—Scope and Authority

Brief Description: These rules implement the requirements of section 251(e) of the Communications Act of 1934, as amended, which gives the Commission exclusive jurisdiction over those portions of the North American Numbering Plan that pertain to the United States.

Need: The rules provide a framework for ensuring fair and impartial access to numbering resources, which is a critical component of encouraging a competitive telecommunications market in the United States.

Legal Basis: 47 U.S.C. 251.

Section Numbers and Titles:

52.1 Basis and purpose.

52.3 General.

52.5 Definitions.

Subpart B—Administration

Brief Description: These rules implement the requirements of section 251(e) of the Communications Act of 1934, as amended, which gives the Commission exclusive jurisdiction over those portions of the North American Numbering Plan that pertain to the United States.

Need: The rules provide a framework for ensuring fair and impartial access to numbering resources, which is a critical component of encouraging a competitive telecommunications market in the United States.

Legal Basis: 47 U.S.C. 251.

Section Numbers and Titles:

52.7 Definitions.

52.9 General requirements.

52.11 North American Numbering Council.

52.13 North American Numbering Plan Administrator.

52.15 Central office code administration.

52.17 Costs of number administration.

52.19 Area code relief.

Subpart C—Number Portability

Brief Description: These rules implement the requirements of section 251(b)(2) of the Communications Act of 1934, as amended, which requires all LECs “to provide, to the extent technically feasible, number portability in accordance with the requirements prescribed by the Commission.”

Need: This subpart provides rules that are designed to ensure that users of telecommunications services can retain, at the same location, their existing telephone numbers when they switch from one local exchange telecommunications carrier to another.

Legal Basis: 47 U.S.C. 251.

Section Numbers and Titles:

52.21 Definitions.

52.23 Deployment of long-term database methods for number portability by LECs.

52.25 Database architecture and administration.

52.27 Deployment of transitional measures for number portability.

52.29 Cost recovery for transitional measures for number portability.

52.31 Deployment of long-term database methods for number portability by CMRS providers.

PART 61—TARIFFS

Subpart C—General Rules for Nondominant Carriers

Brief Description: The part 61 rules are designed to implement the provisions of sections 201, 202, 203, and 204 of the Communications Act of 1934, as amended, and ensure that rates are just, reasonable, and not unjustly or unreasonably discriminatory. These rules govern the filing, form, content, public notice periods, and accompanying support materials for tariffs.

Need: The rules in Subpart C apply to nondominant carriers. Section 61.19(a) was adopted to require mandatory detariffing of interstate, domestic, interexchange services.

Legal Basis: 47 U.S.C. 151, 154(i), 154(j), 201-205, 403.

Section Number and Title:

61.19(a) Detariffing of international and interstate, domestic, interexchange services.

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

Brief Description: Establishes content requirements for filing of applications for international common carriers.

Need: Establishes proper procedure for submitting the correct information to process applications to provide U.S. international telecommunications services.

Legal Basis: 47 U.S.C. 151, 154(i), 154(j), 201-205, 218, 403, and 533.

Section Number and Title:

63.18 Contents of applications for international common carriers.

Brief Description: Establishes procedure for the discontinuance of international service.

Need: Establishes procedure to ensure that customers of international carriers have adequate notice of discontinuation of service to obtain service from alternative carriers.

Legal Basis: 47 U.S.C. 151, 154(i), 154(j), 201-205, 218, 403, and 533.

Section Number and Title:

63.19 Special procedures for discontinuances of international services.

Brief Description: Establishes procedure for the filing of applications for international common carriers, including fees and filing periods associated with such applications.

Need: Ensures that applications are complete and establishes timeline for processing of applications.

Legal Basis: 47 U.S.C. 151, 154(i), 154(j), 201-205, 218, 403, and 533.

Section Number and Title:

63.20 Copies required; fees; and filing periods for international service providers.

Brief Description: Establishes requirements and prohibitions applicable to all U.S. international common carriers.

Need: Ensures that international common carriers are on notice of all necessary filing requirements, requirements relating to the confidential treatment of customer proprietary information, and other requirements necessary to protect the interest of U.S. consumers of international services.

Legal Basis: 47 U.S.C. 151, 154(i), 154(j), 201-205, 214, 218, 403, and 533.

Section Number and Title:

63.21 Conditions applicable to all international Section 214 authorizations.

PART 64—MISCELLANEOUS RULES RELATING TO COMMON CARRIERS

Subpart F—Telecommunications Relay Services and Related Customer Premises Equipment for Persons with Disabilities

Brief Description: Part 64, Subpart F implements section 225 of the Communications Act of 1934, as amended. Section 225 codifies Title IV of the Americans with Disabilities Act of 1990 (ADA) which requires that the Commission ensure that telecommunications relay services (TRS) are available, “to the extent possible and in the most efficient manner,” to individuals with hearing or speech disabilities in the United States. Section 225 defines TRS as telephone transmission services that make it possible for an individual with a hearing or speech disability to engage in communication by wire or radio with a hearing individual in a manner functionally equivalent to that available to persons who do not have such a disability. The rules provide minimal functional, operational, and technical standards for TRS programs. The rules give states a significant role in ensuring the availability of TRS by treating carriers as compliant with their statutory obligations if they operate in a state that has a relay program certified as compliant by the Commission. The rules also establish a cost recovery and a carrier contribution mechanism (TRS Fund) for the provision of interstate TRS and require states to establish cost recovery mechanisms for the provision of intrastate TRS.

Need: Part 64, Subpart F is intended to facilitate communication by persons with hearing or speech disabilities by ensuring that interstate and intrastate TRS are available throughout the country, and by ensuring uniform minimum functional, operational, and technical standards for TRS programs. The TRS rules ensure that individuals with hearing or speech disabilities receive the same quality of service when they make TRS calls, regardless of where their calls originate or terminate.

Legal Basis: 47 U.S.C. 225.

Section Numbers and Title:

64.604(a)(2) Operational Standards, Confidentiality and conversation content.

64.604(c)(ii) Jurisdictional separation of costs, Cost Recovery.

64.604(c)(iii) Jurisdictional separation of costs, TRS Fund.

Subpart G—Furnishing of Enhanced Services and Customer-Premises Equipment by Communications Common Carriers; Telephone Operator Services

Brief Description: This rule requires that each payphone clearly indicate the local coin rate within the informational placard on each payphone.

Need: This rule ensures that consumers have the information in every instance about the price of the calls they make from payphones.

Legal Basis: 47 U.S.C. 276.

Section Number and Title:

64.703(b)(3) Consumer information.

Subpart M—Provision of Payphone Service

Brief Description: This subpart implements section 276 of the Communications Act of 1934, as amended, concerning the provision of payphone service. These rules ensure that payphone providers are fairly compensated for each and every completed payphone originated call, establish a default per-call rate, and give payphone providers the right to negotiate with location providers. These rules require states to review and remove regulations that impose payphone market entry and exit requirements and ensure that all payphones provide free access to dialtone, emergency calls, and telecommunications relay service calls for the hearing disabled.

Need: This subpart encourages competition in the payphone industry and promotes the deployment of payphone services as directed by section 276 of the Communications Act.

Legal Basis: 47 U.S.C. 276.

Section Number and Title:

64.1300 Payphone compensation obligation.

64.1310 Payphone compensation procedures.

64.1320 Payphone call tracking system audits.

64.1330 State review of payphone entry and exit regulations and public interest payphones.

64.1340 Right to negotiate.

Subpart O—Interstate Pay-Per-Call and Other Information Services

Brief Description: Part 64, Subpart O implements section 228 of the Communications Act of 1934, as amended. Subpart O mandates that common carriers assigning telephone numbers to providers of interstate pay-per-call services require that the provider comply with the Subpart O rules as well as certain other laws and regulations. Subpart O restricts the provision of pay-per-call services over 800 and “toll free” numbers and bars the provision of interstate pay-per-call services on a collect basis. It provides for 900 service access code assignment to pay-per-call services, and requires local exchange carriers to offer subscribers the option of blocking access to 900 numbers from their telephones. Subpart O establishes conditions for common carrier provision of billing and collection for pay-per-call services and bars the disconnection or interruption of local exchange or long-distance service for the non-payment of charges for interstate pay-per-call and certain information services.

In 1993, the Commission promulgated the pay-per-call rules summarized above to implement the Telephone Disclosure and Dispute Resolution Act and replace prior pay-per-call rules adopted in 1991. In 1996, the Commission amended the rules to incorporate expanded consumer protections enacted in the Telecommunications Act of 1996. These additional protections included a prohibition on charging callers for calls to toll-free numbers without a written presubscription agreement, a requirement for use of personal identification numbers to prevent unauthorized access, and certain required billing disclosures. The amended rules also permitted alternatives to written presubscription such as payment by prepaid account, debit, credit, charge, or calling card. In July 2004, the Commission released a Notice of Proposed Rulemaking seeking comment on possible modifications to address circumvention of the pay-per-call rules.

Need: Part 64, Subpart O is intended both to promote the legitimate development of pay-per-call services and protect consumers from the fraudulent or unscrupulous provision of pay-per-call services.

Legal Basis: 47 U.S.C. 228.

Section Numbers and Titles:

64.1501 Definitions.

64.1502 Limitations on the provision of pay-per-call services.

64.1503 Termination of pay-per-call and other information programs.

64.1504 Restrictions on the use of toll-free numbers.

64.1505 Restrictions on collect telephone calls.

64.1506 Number designation.

64.1507 Prohibition on disconnection or interruption of service for failure to remit pay-per-call and similar service charges.

64.1508 Blocking access to 900 service.

64.1509 Disclosure and dissemination of pay-per-call information.

64.1510 Billing and collection of pay-per-call and similar service charges.

64.1511 Forgiveness of charges and refunds.

64.1512 Involuntary blocking of pay-per-call services.

64.1513 Verification of charitable status.

64.1514 Generation of signaling tones.

64.1515 Recovery of costs.

Subpart Q—Implementation of Section 273(D)(5) of the Communications Act: Dispute Resolution Regarding Equipment Standards

Brief Description: These rules implement section 273(d) of the Communications Act of 1934, as amended by setting forth procedures to be followed when organizations set industry-wide standards for telecommunications equipment or customer premises equipment. These rules establish a default dispute resolution process to be used when technical disputes arise between a non-accredited standards development organization (NASDO) and any party who funds the activities of the NASDO.

Need: As intended by Congress, these rules ensure that disputes can be resolved in an open, non-discriminatory, and unbiased fashion and that these dispute resolution procedures will be used only when all of the parties are unable to agree on a process for resolving their disputes.

Legal Basis: 47 U.S.C. 273.

Section Number and Title:

64.1700 Purpose and scope.

64.1701 Definitions.

64.1702 Procedures.

64.1703 Dispute resolution default process.

64.1704 Frivolous disputes/penalties.

Subpart R—Geographic Rate Averaging and Rate Integration

Brief Description: Part 64, subpart R implements section 254(g) of the Communications Act of 1934, as amended (Act), which requires the Commission to adopt rules requiring providers of interexchange telecommunications services to charge subscribers geographically averaged and integrated rates.

Need: Section 64.1801 was adopted to enable the Commission to meet its duty, in compliance with section 254(g) of the Act, to adopt rules requiring providers of interexchange telecommunications services to charge subscribers geographically averaged and integrated rates.

Legal Basis: 47 U.S.C. 151, 154(i), 201-205, 214(e), 215, 254(g).

Section Number and Title:

64.1801 Geographic rate averaging and rate integration.

Subpart S—Nondominant Interexchange Carrier Certifications Regarding Geographic Rate Averaging and Rate Integration Requirements

Brief Description: Part 64, subpart S facilitates Commission oversight and enforcement of section 254(g) of the Communications Act of 1934, as amended (Act), which requires providers of interexchange telecommunications services to charge subscribers geographically averaged and integrated rates.

Need: Section 64.1900 requires each nondominant provider of interexchange telecommunications service that provides detariffed interstate, domestic, interexchange services to file an annual certification with the Commission that it is in compliance with the geographic rate averaging and rate integration requirements of section 254(g) of the Act. This rule was adopted to enable the Commission to meet its statutory duty of ensuring that rates for these services comply with section 254(g) and to investigate and resolve related complaints.

Legal Basis: 47 U.S.C. 154, 201, 218, 226, 228, 254.

Section Number and Title:

64.1900 Nondominant interexchange carrier certifications regarding geographic rate averaging and rate integration requirements.

PART 68—CONNECTION OF TERMINAL EQUIPMENT TO THE TELEPHONE NETWORK

Subpart A—General

Brief Description: Part 68 implements the Hearing Aid Compatibility Act of 1988 (HAC Act). The HAC Act requires that, unless exempt, all essential telephones and all telephones manufactured in or imported into the United States after August 16, 1989 must “provide internal means for effective use with hearing aids that are designed to be compatible with telephones which meet established technical standards for hearing aid compatibility.” The scope of this discussion is limited to part 68 as it applies to telephone compatibility with hearing aids.

Need: Part 68 establishes conditions for direct connection to the network of registered terminal equipment to prevent network harm and ensure that telephones are compatible with hearing aids. The purpose of part 68 is, in part, to provide for uniform standards for the compatibility of hearing aids and telephones to ensure that persons with hearing aids have reasonable access to the telephone network.

Legal Basis: 47 U.S.C. 151-154, 201-205, 303(r) & 610.

Section Number and Title:

68.3 Definitions.

Subpart C—Terminal Equipment Approval Procedures

Brief Description: Part 68 governs the connection of terminal equipment (TE), e.g., telephones, fax machines, and computer modems, to the Public Switched Telephone Network (PSTN) and to wireline carrier-provided private lines. Part 68 requires responsible parties, as defined in Section 68.3, to have their TE formally approved for such connection. Subpart C identifies the processes for obtaining TE approvals, and for the Commission revoking them.

Need: The rules set forth the grounds and process for revoking TE approval.

Legal Basis: 47 U.S.C. 151, 154, 155, 201-205, 218, 220, 313, 403, 412.

Section Numbers and Title:

68.211 Terminal equipment approval revocation procedures.

PART 73—RADIO BROADCAST SERVICES

Subpart H—Rules Applicable to All Broadcast Stations

Brief Description: This rule requires applications for a construction permit, or modification of a construction permit, for a new facility or change in an existing facility, for any AM, FM, TV and Class A TV broadcast service, to include the Antenna Structure Registration Number.

Need: This rule ensures the antenna structures are registered prior to staff consideration of the construction permit or license application.

Legal Basis: 47 U.S.C. 154.

Section Number and Title:

73.3533(c) Application for construction permit or modification of construction permit.

PART 76—MULTICHANNEL VIDEO AND CABLE TELEVISION SERVICE

Subpart J—Ownership of Cable Systems

Brief Description: This rule generally prohibits a local exchange carrier (“LEC”) or its affiliate from acquiring a cable company within the LEC's telephone service area, and prohibits a cable company or its affiliate from acquiring a LEC within the cable company's franchise area.

Need: This rule implements Section 302(a) of the Telecommunications Act of 1996, which created a new Section 652 of the Communications Act.

Legal Basis: 47 U.S.C. 572.

Section Number and Title:

76.505 Prohibition on buy outs.

Subpart N—Cable Rate Regulation

Brief Description: This rule provides an additional prong to the definition of cable systems subject to effective competition.

Need: This rule implements Section 303(b)(3) of the Telecommunications Act of 1996, which was codified at 623(1)(l)(D) of the Communications Act.

Legal Basis: 47 U.S.C. 543.

Section Number and Title:

76.905 Standards for identification of cable systems subject to effective competition.

Subpart R—Telecommunications Act Implementation

Brief Description: These rules provide interim procedures for administering certain aspects of cable regulation. These rules are interim because the Commission has solicited comment regarding the specific matters addressed in these rules and may modify their operation when they are promulgated in final form.

Need: These rules implement Section 301(b) of the Telecommunications Act of 1996.

Legal Basis: 47 U.S.C. 543.

Section Number and Title:

76.1400 Purpose.

76.1402 CPST rate complaints.

76.1404 Use of cable facilities by local exchange carriers.

Subpart S—Open Video Systems

Brief Description: These rules establish the framework for entry into the video programming delivery marketplace as an open video system operator. The open video framework provides an option for the distribution of video programming other than as a cable system governed by the provisions of Title VI. A service provider certified as an operator of an open video system is subject to streamlined regulation under Title VI.

Need: These rules implement Section 302(a) of the Telecommunications Act of 1996.

Legal Basis: 47 U.S.C. 154(i), 154(j), 303(r) and 573.

Section Number and Title:

76.1500 Definitions.

76.1501 Qualifications to be an open video system operator.

76.1502 Certification.

76.1503 Carriage of video programming providers on open video systems.

76.1504 Rates, terms and condition of carriage on open video systems.

76.1505 Public, educational and governmental access.

76.1506 Carriage of television broadcast signals.

76.1507 Competitive access to satellite cable programming.

76.1508 Network non-duplication.

76.1509 Syndicated program exclusivity.

76.1510 Application of certain Title VI provisions.

76.1511 Fees.

76.1512 Programming information.

76.1513 Open video dispute resolution.

76.1514 Bundling of video and local exchange services.

PART 90—PRIVATE LAND MOBILE RADIO SERVICES

Subpart T—Regulations Governing Licensing and Use of Frequencies in the 220-222 MHz Band

Brief Description: The part 90 rules state the conditions under which radio communications systems may be licensed and used in the Public Safety, Industrial/Business Radio Pool, and Radiolocation Radio Services. Subpart T sets forth the rules governing the licensing and operations of all systems operating in the 220-222 MHz band. Among other things, it sets forth policies governing the construction and modification of 220-222 MHz stations.

Need: These rules are needed to provide 220-222 MHz licensees with flexibility to modify their authorized facilities, and to provide a safeguard against the warehousing of 220-222 MHz spectrum.

Legal Basis: 47 U.S.C. 154(i), 161, 303(g), 303(r), 332(c)(7).

Section Number and Title:

90.751 Minor modifications of Phase I, non-nationwide licenses.

90.753 Conditions of license modification.

90.757 Construction requirements.

Subpart V—Competitive Bidding Procedures for 800 MHz Specialized Mobile Radio Service

Brief Description: The part 90 rules state the conditions under which radio communications systems may be licensed and used in the Public Safety, Industrial/Business Radio Pool, and Radiolocation Radio Services. Subpart V sets forth the rules governing the use of competitive bidding to choose among mutually exclusive 800 MHz SMR applicants.

Need: These rules are needed to provide a framework for auctions.

Legal Basis: 47 U.S.C. 154(i), 161, 303(g), 303(r), 332(c)(7).

Section Number and Title:

90.901 800 MHz SMR spectrum subject to competitive bidding.

90.903 Competitive bidding mechanisms.

90.904 Aggregation of EA licenses.

90.909 License grants.

90.910 Bidding credits.

90.911 Partitioned licenses and disaggregated spectrum.

90.912 Definitions.

90.913 Record maintenance and definitions.

PART 95—PERSONAL RADIO SERVICES

Subpart B—Family Radio Service (FRS)

Brief Description: The part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart B applies to the Family Radio Service, a very short distance, unlicensed, two-way voice radio service in the Ultra High Frequency (UHF) portion of the radio spectrum.

Need: These rules provide a radio service to meet the needs of families and other small groups for a good quality voice radio communication service having a very short range. The Family Radio Service provides group members with the ability to use palm size radio units to communicate while on outings, such as visiting shopping malls and amusement parks, attending sporting events, camping, and taking part in other recreational activities. These rules also impose limitations on the use of the Family Radio Service, including specification of permissible communications.

Legal Basis: 47 U.S.C. 154, 303.

Section Number and Title:

95.191 (FRS Rule 1) Eligibility and responsibility.

95.192 (FRS Rule 2) Authorized locations.

95.193 (FRS Rule 3) Types of communications.

95.194 (FRS Rule 4) FRS units.

Subpart G—Low Power Radio Service (LPRS)

Brief Description: The part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart G applies to the Low Power Radio Service, a low power radio service sharing use of the 216-217 MHz band.

Need: These rules provide a regulatory framework accommodating, for example, auditory assistance devices, health care assistance devices, and law enforcement tracking systems. These rules also impose limitations on the use of the Low Power Radio Service, including specification of permissible communications.

Legal Basis: 47 U.S.C. 154, 303.

Section Number and Title:

95.1001 Eligibility.

95.1003 Authorized locations.

95.1005 Station identification.

95.1007 Station inspection.

95.1009 Permissible communications.

95.1011 Channel use policy.

95.1015 Disclosure policies.

95.1017 Labeling requirements.

95.1019 Marketing limitations.

PART 101—FIXED MICROWAVE SERVICES

Subpart B—Applications and Licenses

Brief Description: The part 101 rules prescribe the manner in which portions of the radio spectrum may be made available for private operational, common carrier, 24 GHz Service and Local Multipoint Distribution Service fixed, microwave operations that require transmitting facilities on land or in specified offshore coastal areas within the continental shelf. Subpart B sets forth the rules governing the licensing and operations of those fixed microwave operations subject to part 101.

Need: The identified rules are necessary to define the rights and obligations of licensees in those portions of the band that have been reallocated from fixed microwave services to other services.

Legal Basis: 47 U.S.C. 151, 154(i), 157(a), 301, 303(f), 303(g), 303(r), 307, 316.

Section Number and Title:

101.71 Voluntary negotiations.

101.73 Mandatory negotiations.

101.75 Involuntary relocation procedures.

101.77 Public safety licensees in the 1850-1990 MHz, 2110-2150 MHz, and 2160-2200 MHz bands.

101.79 Sunset provisions for licensees in the 1850-1990 MHz, 2110-2150 MHz, and 2160-2200 MHz bands.

101.81 Future licensing in the 1850-1990 MHz, 2110-2150 MHz, and 2160-2200 MHz bands.

Subpart C—Technical Standards

Brief Description: The part 101 Rules prescribe the manner in which portions of the radio spectrum may be made available for fixed microwave services. Subpart C sets forth the technical requirements for such services.

Need: The identified rule is necessary to promote efficient utilization of the spectrum allocated for fixed microwave services.

Legal Basis: 47 U.S.C. 154, 303.

Section Number and Title:

101.15 Use of signal boosters.

[FR Doc. E6-20143 Filed 11-28-06; 8:45 am]

BILLING CODE 6712-01-P